DEPARTMENT OF COMMERCE

National Oceanic and Atmospheric Administration

Climate Change Science Program (CCSP) Product Development Committee (CPDC) for Synthesis and Assessment Product 1.1

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 1.1 (CPDC—S&A 1.1) was established by a Decision Memorandum dated October 7, 2005. CPDC—S&A 1.1 is the Federal Advisory Committee charged with responsibility to develop a draft Synthesis and Assessment Product that addresses CCSP Topic 1.1: “Temperature trends in the lower atmosphere—steps for understanding and reconciling differences”.

Time and Date: The meeting will be held Wednesday, February 8, 2006, from 8 a.m. to 6 p.m. and Thursday, February 9, 2006, from 8 a.m. to 2 p.m. These times and the agenda topics described below are subject to change. Refer to the Web page http://www.ogp.noaa.gov/ccsp/11.html for the most up-to-date meeting agenda.

Place: The meeting will be held both days at the Hilton Chicago O'Hare Airport, Chicago, Illinois, 60666.

Status: The meeting will be open to public participation with a 60-minute public comment period on February 8 from 8:15 a.m. to 9:15 a.m. (check Web site to confirm this time). The CPDC—S&A 1.1 expects that public statements presented at its meetings will not be repetitive of previously submitted verbal or written statements. In general, each individual or group making a verbal presentation will be limited to a total time of five (5) minutes. Written comments (at least 35 copies) should be received by the CPDC—S&A 1.1 Designated Federal Official by February 1, 2006 to provide sufficient time for review. Written comments received after February 1 will be distributed to the CPDC—S&A 1.1, but may not be reviewed prior to the meeting date. Seats will be available on a first-come, first-served basis.

Matters To Be Considered: The meeting will include the following topics: (1) Resolution of public comments received on the 2nd Draft of Synthesis and Assessment Product 1.1 (2) Discussion of plans for completion and submission of 3rd Draft of Synthesis and Assessment Product 1.1 to the CCSP Interagency Committee.

FOR FURTHER INFORMATION CONTACT: Christopher Miller, Designated Federal Official, CPDC—S&A 1.1 (NOAA Climate Program Office, 1100 Wayne Avenue, Suite 1210, Silver Spring, Maryland 20910. Phone: 301-427-2376, Fax: 301-427-2073, E-mail: Christopher.D.Miller@noaa.gov), or visit the Web site at http://www.ogp.noaa.gov/ccsp/11.html.

Dated: January 10, 2006.
Mark Brown,
Chief Financial Officer, Office of Oceanic and Atmospheric Research, National Oceanic and Atmospheric Administration.

[FR Doc. E6-513 Filed 1-18-06; 8:45 am]

BILLING CODE 3510-KD-P